DEPARTMENT OF HOUSING AND URBAN DEVELOPMENT

[Docket No. FR-7029-N-03]

60-Day Notice of Proposed Information Collection: The National Family Self-Sufficiency (FSS) Demonstration

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: May 26, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: The National Family Self-Sufficiency (FSS) Demonstration.

OMB Approval Number: N/A.

Type of Request (i.e. new, revision or extension of currently approved collection): New collection.

Form Number: N/A.

Description of the need for the information and proposed use: In 2012, HUD commissioned the national Family Self-Sufficiency (FSS) Study. MDRC was selected to lead this evaluation. As part of the longer-term follow-up, which HUD authorized in 2018—and extends through 2021, MDRC will conduct a long-term follow-up survey with a sample of individuals who enrolled in the study and were randomly assigned to a program group (offered the opportunity to enroll in FSS and receive services) or a control group. The survey will allow us to understand the FSS program's long-term effects on indicators of economic self-sufficiency (employment and income, for example) and well-being (health, financial, material, housing, for example). The survey will also provide an opportunity to understand the program participation experiences of FSS participants in the study who continue to be enrolled in FSS and those who exited for a variety of reasons, including graduation from FSS. No other comprehensive data source exists to provide the type of information that will be collected by this follow-up survey.

Respondents: Participants enrolled in the HUD Family Self-Sufficiency Evaluation.

Estimated Number of Respondents: The survey will be fielded to 1,300 sample members, one half coming from the program group and the other half from the control group. We expect between 60 to 70 percent of the respondents will complete the survey.

Estimated Time per Response: 15-minute survey interview.

Frequency of Response: 1 interview.

Estimated Total Annual Burden Hours: 325 hours.¹

¹ The estimated total annual burden hours estimate if all 1,300 study participants respond to the survey is 325. However, we expect that between 60 to 70 percent of the respondents will complete the survey. In that case, the actual total annual burden hours would be between 195 to 228 hours.

Estimated Total Annual Cost: $3,276.

Respondent's Obligation: Voluntary.

Legal Authority: The survey is conducted under Title 12, United States Code, Section 1701z and Section 3507 of the Paperwork Reduction Act of 1995, 44, U.S.C., 35, as amended.

Information collection | Number of respondents | Frequency of response | Responses per annum | Burden hour per response | Annual burden hours | Hourly cost per response | Cost
Total | 1,300 | 1 | 1 | 0.25 | 325 | ² $10.08 | ³ $3,276

B. Solicitation of Public Comment

² To compute the hourly cost per response, MDRC used the average state minimum wage of the 18 study sites, as of July 1, 2020. In cases where the site's county had a higher minimum wage than the site's state, the county minimum wage was used for the calculations. Across the 18 sites in 7 states (California, Florida, Maryland, Missouri, New Jersey, Ohio, and Texas), the minimum wages ranged from $7.25 to $15 per hour.

³ To compute the total estimated annual cost, the total estimated annual burden hours were multiplied by the hourly cost per response. The calculation assumes 325 total annual burden hours if all 1,300 study participants respond to the survey. However, we expect that between 60 to 70 percent of the respondents will complete the survey. In that case, the actual total annual burden hours may be between 195 and 228 hours, and the actual total annual cost would be between $1,965.60 and $2,298.24.

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. Chapter 35.

Dated: March 6, 2020.
Todd M. Richardson,
General Deputy, Assistant Secretary for Policy Development and Research.

[FR Doc. 2020-06162 Filed 3-23-20; 8:45 am]

BILLING CODE 4210-67-P